DEPARTMENT OF DEFENSE

Office of the Secretary

[Transmittal No. 24-54]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-54, Policy Justification, and Sensitivity of Technology.

Dated: November 13, 2025.
Aaron T. Siegel,
Alternate OSD Federal Register Liaison Officer, Department of Defense.

BILLING CODE 6001-FR-P

BILLING CODE 6001-FR-C

Transmittal No. 24-54

Notice of Proposed Issuance of Letter of Offer Pursuant to Section 36(b)(1) of the Arms Export Control Act, as amended

(i) Prospective Purchaser: Government of the Czech Republic

(ii) Total Estimated Value:

Major Defense Equipment * | $124.90 million
Other | $ 13.36 million
TOTAL | $138.26 million

Funding Source: National Funds

(iii) Description and Quantity or Quantities of Articles or Services under Consideration for Purchase:

Major Defense Equipment (MDE):

Two hundred (200) Hellfire Air-to-Ground Missiles, AGM-114R

Four (4) Hellfire Captive Air Training Missiles (CATM)

Six hundred (600) WGU-59A/B Advanced Precision Kill Weapon System (APKWS) II (single variant)

Non-MDE:

Also included: support equipment; dummy cartridge rounds; containers; training material; inert components; publications; repair of repairables; and training and technical support.

(iv) Military Department: Navy (EZ-P-GAI)

(v) Prior Related Cases, if any: EZ-P-GAI; EZ-P-SBF

(vi) Sales Commission, Fee, etc., Paid, Offered, or Agreed to be Paid: None known at this time

(vii) Sensitivity of Technology Contained in the Defense Article or Defense Services Proposed to be Sold: See Attached Annex

(viii) Date Report Delivered to Congress: July 17, 2024

* as defined in Section 47(6) of the Arms Export Control Act.

POLICY JUSTIFICATION

Czech Republic—Hellfire Missiles and Advanced Precision Kill Weapon System

The Government of the Czech Republic has requested to buy two hundred (200) Hellfire Air-to-Ground Missiles, AGM-114R; four (4) Hellfire Captive Air Training Missiles (CATM); and six hundred (600) WGU-59A/B Advanced Precision Kill Weapon System (APKWS) II (single variant). The following non-MDE is also included: support equipment; dummy cartridge rounds; containers; training material; inert components; publications; repair of repairables; and training and technical support. The estimated total cost is $138.26 million.

This proposed sale will support the foreign policy goals and national security objectives of the United States by improving the security of a NATO Ally that is an important force for political stability and economic progress in Europe.

The proposed sale will improve the Czech Republic's capability to strengthen its homeland defense and deter regional threats. This will contribute to its military goals of updating capability while further enhancing interoperability with the United States and other allies. The Czech Republic will have no difficulty absorbing this equipment into its armed forces.

The proposed sale of this equipment and support will not alter the basic military balance in the region.

The principal contractors will be Lockheed Martin, located in Orlando, FL, and BAE Systems, Inc., located in Nashua, NH. There are no known offset agreements proposed in connection with this potential sale.

Implementation of this proposed sale will require multiple trips by U.S. Government and contractor representatives to participate in program and technical reviews plus training and maintenance support in country.

There will be no adverse impact on U.S. defense readiness as a result of this proposed sale.

Transmittal No. 24-54

Notice of Proposed Issuance of Letter of Offer Pursuant to Section 36(b)(1) of the Arms Export Control Act, as amended

Annex

Item No. vii

(vii) Sensitivity of Technology:

1. The AGM-114 Hellfire missile is an anti-armor, laser guided, air-to-ground weapon that uses a shaped charge warhead to defeat hard point targets with minimal exposure of the launch helicopter to enemy fire. Guidance is provided through automatic terminal homing on laser signals reflected from a laser designated target. The Hellfire weapon system consists of an AGM-114 series missile, M299 launcher which attaches to multiple platforms with Hellfire-peculiar avionics, and a laser target designator. Laser target designators can be hand-held, tripod-mounted by ground observers, or aircraft-mounted on units such as the Night Targeting System. The missile consists of four major sections: seeker, guidance warhead, propulsion, and control. The only difference between the Army and Navy basic Hellfire versions is that Navy version has a Safe and Arm (S&A) device in the propulsion section. The S&A device, which has an out-of-line igniter, provides the additional safety required for shipboard use. The M299 guided missile launcher was developed specifically for the Hellfire missile and provides the electronic and mechanical interface between the missile and helicopter. Each launcher can carry one to four missiles. The length, weight, and physical characteristics of the Hellfire missile are the same as the base missile, allowing full compatibility with launch platforms, shipping containers, and support systems currently in place. The Hellfire missile provides attack helicopters and Unmanned Aircraft Systems (UAS) with point target precision strike capability to defeat heavy, advanced armor, individual hard point, and non-traditional targets. Hellfire missiles use semi-active laser (SAL) terminal guidance and are the primary armaments of the AH-64 Apache and Army UAS and Special Operations Aircraft, as well as the MH-60R, AH-1Z, and UH-1Y.

The WGU-59A/B Advanced Precision Kill Weapon System-II (APKWS-II) is a design conversion of an unguided Hydra 2.75-inch rocket with a laser guidance kit to give it precision-kill capability. As a low-cost weapon, it is intended as an inexpensive means to destroy targets while limiting collateral damage in close combat. The APKWS consists of guidance section (single variant block upgrade (SVBU)) developed by BAE Systems, Inc., a legacy 2.75-inch MK66 Mod 4 Rocket Motor, and a legacy Mk151 or Mk152 with Mk435/436 fuze (or other compatible 2.75-inch warhead). These guided rockets are steered to the target by following reflected laser beam energy directed onto the target by either the launching aircraft, a second aircraft, or ground-based troops operating a laser designator. The APKWS II is a tactical rocket system that can be launched from several platforms, including rotary wing aircraft, fixed wing aircraft, and ground-based vehicles, offering multi-mission, multi-target capability, and precision-strike lethality.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Czech Republic can provide substantially the same degree of protection for the sensitive technology being released as the U.S. Government. This sale is necessary in furtherance of the U.S. foreign policy and national security objectives outlined in the Policy Justification.

5. All defense articles and services listed in this transmittal have been authorized for release and export to the Government of the Czech Republic.

[FR Doc. 2025-20076 Filed 11-17-25; 8:45 am]

BILLING CODE 6001-FR-P